DEPARTMENT OF THE INTERIOR

National Park Service

Kaloko-Honokohau National Historical Park Advisory Commission; Notice of Meeting

Notice is hereby given in accordance with the Federal Advisory Committee Act that a meeting of the Na Hoapili O Kaloko Honokohau, Kaloko-Honokohau National Historical Park Advisory Commission will be held at 10 a.m., February 6, 2004 at Kaloko-Honokohau National Historical Park headquarters, 73-4786 Kanalani St. Suite 14, Kailua-Kona, Hawaii.

The agenda will include Commission Membership, Alu Like Partnership, Resource and Educational Center, and various park projects.

The meeting is open to the public. Minutes will be recorded for documentation and transcribed for dissemination. Minutes of the meeting will be available to the public after approval of the full Advisory Commission. Transcripts will be available after 30 days of the meeting.

For copies of the minutes, contact Kaloko-Honokohau National Historical Park at (808) 329-6881.

Dated: December 29, 2003.
Geraldine K. Bell,
Superintendent, Kaloko-Honokohau National Historical Park.

[FR Doc. 04-1594 Filed 1-26-04; 8:45 am]

BILLING CODE 4312-6H-M